DEPARTMENT OF DEFENSE

Department of the Navy

Notice of Public Meetings for the Draft Environmental Impact Statement for EA-18G “Growler” Airfield Operations at the Naval Air Station Whidbey Island Complex, Washington

AGENCY: Department of the Navy, DoD

ACTION: Notice.

SUMMARY: Pursuant to Section 102(2)(c) of the National Environmental Policy Act of 1969 and regulations implemented by the Council on Environmental Quality (40 Code of Federal Regulations parts 1500-1508), the Department of the Navy (DoN) has prepared and filed with the U.S. Environmental Protection Agency a Draft Environmental Impact Statement (EIS) to assess the potential environmental impacts of adding up to 36 Growler aircraft at the Naval Air Station (NAS) Whidbey Island complex, and continuing and increasing Growler airfield operations. The NAS Whidbey Island complex is located in Island County, Washington, on Whidbey Island, in the northern Puget Sound region. The complex includes the main air station (Ault Field), which is in the north-central part of the island, adjacent to the city of Oak Harbor, and Outlying Landing Field (OLF) Coupeville. The OLF is approximately 10 miles south of Ault Field and is dedicated primarily to Field Carrier Landing Practice (FCLP).

With the filing of the Draft EIS, the DoN is initiating an extended public comment period of 75 days, beginning on November 10, 2016 and ending on January 25, 2017. Public meetings are scheduled to inform the public and receive comments on the environmental analysis presented in the Draft EIS. This notice announces the dates, times, and locations of the public meetings and provides supplementary information about the Draft EIS.

DATES AND ADDRESSES: The DoN will hold public meetings to inform the public about the Draft EIS and the proposed action and alternatives under consideration and to provide opportunities for the public to comment on the Draft EIS. Federal, state, and local agencies and officials, Native American Indian Tribes and Nations, and interested organizations and individuals are encouraged to provide comments in person at the public meetings or in writing during the 75-day public review period. Public meetings will be held at the following dates, times, and locations:

1. Monday, December 5, 2016, from 3:00 p.m. to 6:00 p.m., at the Fort Worden State Park Conference Center, USO Hall, 200 Battery Way, Port Townsend, Washington 98368.

2. Tuesday, December 6, 2016, from 4:00 p.m. to 7:00 p.m., at the Oak Harbor Elks Lodge Grande Hall, 155 NE Ernst Street, Oak Harbor, Washington 98277.

3. Wednesday, December 7, 2016, from 3:00 p.m. to 6:00 p.m., at the Lopez Center for Community and the Arts, 204 Village Road, Lopez Island, Washington 98261.

4. Thursday, December 8, 2016, from 3:00 p.m. to 6:00 p.m., at the Seafarers' Memorial Park Building, 601 Seafarers Way, Anacortes, Washington 98221.

5. Friday, December 9, 2016, from 4:00 p.m. to 7:00 p.m., at the Coupeville High School Commons, 501 South Main Street, Coupeville, Washington 98239.

The public meetings will be open house sessions with informational poster stations. Members of the public will have the opportunity to ask questions of DoN representatives and subject matter experts. Attendees will also be able to provide verbal comments to a stenographer or submit written comments during the public meetings. In addition to participating in the public meetings, members of the public may submit comments via the U.S. Postal Service using the mailing address identified in the contact information later in this notice or electronically using the project Web site (http://www.whidbeyeis.com). All comments made at the public meetings or postmarked or received online by January 25 will become part of the public record and be considered in the Final EIS.

The DoN may release the city, state, and 5-digit zip code of individuals who provide comments during the Draft EIS public review period. However, the names, street addresses, email addresses and screen names, telephone numbers, or other personally identifiable information of those individuals will not be released by the DoN unless required by law. Prior to each commenter making verbal comments to the stenographer at the public meetings the commenter will be asked whether he/she agrees to a release of their personally identifiable information. Those commenters submitting written comments, either using comment forms or via the project Web site, will be asked whether they authorize release of personally identifiable information by checking a “release” box.

FOR FURTHER INFORMATION CONTACT: EA-18G EIS Project Manager, Naval Facilities Engineering Command (NAVFAC) Atlantic, Attention: Code EV21/SS; 6506 Hampton Boulevard, Norfolk, Virginia 23508.

SUPPLEMENTARY INFORMATION: On September 5, 2013, the DoN published a notice of intent (NOI) in the Federal Register (78 FR 54635) to analyze the potential addition of 13 Growler aircraft to the existing Growler community stationed at NAS Whidbey Island. A revised NOI was published in the Federal Register on October 10, 2014 (79 FR 61296), which modified the proposed action by increasing the number of aircraft analyzed to 36 in order to account for the possible procurement of additional aircraft. Comments received during the two scoping periods were used to shape the analysis contained in the Draft EIS.

The DoN's proposed action is to: (1) Continue and expand existing Growler operations at Ault Field and OLF Coupeville; (2) increase capabilities to accommodate up to 36 additional aircraft, including the construction and renovation of facilities at Ault Field; (3) support flight operations of other aircraft, and (4) station additional personnel in the region.

The purpose of the proposed action is to augment the DoN's existing Electronic Attack community at NAS Whidbey Island by operating additional Growler aircraft as appropriated by Congress. The DoN needs to effectively and efficiently increase electronic attack capabilities in order to counter increasingly sophisticated threats and provide more aircraft per squadron in order to give operational commanders more flexibility in addressing future threats and missions. The need for the proposed action is to maintain and expand Growler operational readiness to support national defense requirements under Title 10, United States Code (U.S.C.), Section 5062.

In developing the proposed range of alternatives that meet the purpose of and need for the proposed action, the DoN carefully reviewed important considerations unique to the Growler community that is single-sited at NAS Whidbey Island, as well as Growler squadron training in light of Title 10 responsibilities; existing training requirements and regulations; existing DoN infrastructure; and Chief of Naval Operations guidance to support operating Naval Forces. Furthermore, the DoN evaluated past home basing decisions, reconsidered alternatives previously eliminated from analysis, and thoughtfully considered basing and training options suggested by the public during the two scoping periods. The Draft EIS explains the DoN's reasons for eliminating some alternatives and suggested options from further consideration. In addition, the Draft EIS explains why some alternatives presented in the October 10, 2014 revised NOI were not carried forward.

The action alternatives evaluated in the Draft EIS vary in terms of force structure and operations to accommodate the proposed increase in Growler aircraft. In addition, three operational scenarios (sub-alternatives) are evaluated, all of which focus on the distribution of annual FCLP airfield operations between Ault Field and OLF Coupeville.

In addition to the action alternatives, the DoN evaluated the potential environmental effects of the No Action Alternative. Under this alternative, the proposed action would not occur. Although the No Action Alternative would not meet the purpose of or need for the proposed action, the conditions associated with the No Action Alternative serve as reference points for describing and quantifying the potential environmental impacts associated with the proposed action alternatives. For this Draft EIS, the DoN is using the year 2021 for the No Action Alternative because it represents conditions when events at Ault Field affecting aircraft loading, facility and infrastructure assets, personnel levels, and number of aircraft are expected to be fully implemented and complete from previous aircraft home basing, aircraft retirement, and other related decisions.

The Draft EIS provides an analysis of the potential environmental effects of the proposed action on the following resources: Airspace and airfield operations; noise; public health and safety; air quality; land use; cultural resources; American Indian traditional resources; biological resources; water resources; socioeconomics; environmental justice; transportation; infrastructure; geological resources; hazardous materials and wastes; and climate change and greenhouse gases. Consultation with the Washington State Historic Preservation Officer under Section 106 of the National Historic Preservation Act is pending. The Navy will also engage in consultations with the U.S. Fish and Wildlife Service, National Marine Fisheries Service, Washington State Department of Ecology, and Native American Tribes and Nations.

The Draft EIS was distributed to federal, state, and local agencies and elected officials, Native American Indian Tribes and Nations, and other interested individuals and organizations. The Draft EIS is available for public electronic viewing or download at the project Web site (http://www.whidbeyeis.com). A paper copy of the Draft EIS may be reviewed at 22 public libraries in the northern Puget Sound region. The full list of and addresses for each of the libraries may be found at the project Web site.

To be included on the DoN's mailing list for future updates on the EIS, submit a request electronically using the project Web site or submit a written request to the address previously identified for further information. The same policy for release of personally identifiable information as identified above will be maintained by the DoN for individuals requesting to be included on the EIS mailing list.

Dated: November 9, 2016.
C.D. Mora,
Commander, Judge Advocate General's Corps, U.S. Navy, Federal Register Liaison Officer.

[FR Doc. 2016-27827 Filed 11-17-16; 8:45 am]

BILLING CODE 3810-FF-P